DEPARTMENT OF HEALTH AND HUMAN SERVICES

Health Resources and Services Administration

Charter Renewal for the Advisory Committee on Heritable Disorders in Newborns and Children

AGENCY: Health Resources and Services Administration (HRSA), Department of Health and Human Services.

ACTION: Notice.

SUMMARY: In accordance with the Federal Advisory Committee Act, the Department of Health and Human Services is hereby giving notice that the Advisory Committee on Heritable Disorders in Newborns and Children (ACHDNC) charter has been renewed.

DATES: The effective date of charter renewal is November 10, 2024.

FOR FURTHER INFORMATION CONTACT: Leticia Manning, Maternal and Child Health Bureau, HRSA, 5600 Fishers Lane, 18N38A, Rockville, Maryland 20857; 301-443-8335; or lmanning@hrsa.gov.

SUPPLEMENTARY INFORMATION: ACHDNC provides advice and recommendations to the Secretary of Health and Human Services (Secretary) on the development of newborn screening activities, technologies, policies, guidelines, and programs for effectively reducing morbidity and mortality in newborns and children having, or at risk for, heritable disorders. ACHDNC reviews and reports regularly on newborn and childhood screening practices, recommends improvements in the national newborn and childhood screening programs, and fulfills requirements stated in the authorizing legislation. In addition, ACHDNC's recommendations regarding inclusion of conditions for screening on the Recommended Uniform Screening Panel, following adoption by the Secretary, are evidence-informed preventive health services provided for in the comprehensive guidelines supported by HRSA pursuant to section 2713 of the Public Health Service Act (42 U.S.C. 300gg-13). Under this provision, non-grandfathered group health plans and health insurance issuers offering non-grandfathered group or individual health insurance are required to provide insurance coverage without cost-sharing (a co-payment, co-insurance, or deductible) for preventive services for plan years (i.e., policy years) beginning on or after the date that is 1 year from the Secretary's adoption of the condition for screening.

The charter renewal for the ACHDNC was approved on October 29, 2024. The filing date is November 10, 2024. Renewal of the ACHDNC charter authorizes the committee to operate until November 10, 2026

A copy of the ACHDNC charter is available on the ACHDNC website at https://www.hrsa.gov/advisory-committees/heritable-disorders/index.html. A copy of the charter also can be obtained by accessing the FACA database that is maintained by the Committee Management Secretariat under the General Services Administration. The website address for the FACA database is http://www.facadatabase.gov/.

Maria G. Button,
Director, Executive Secretariat.

[FR Doc. 2024-26198 Filed 11-12-24; 8:45 am]

BILLING CODE 4165-15-P